DEPARTMENT OF LABOR

Employment and Training Administration

[TA-W-65,857; TA-W-65,857A; TA-W-65,857B]

Steelcase, Inc., Kentwood, MI; Steelcase University, Grand Rapids, MI; Steelcase, Inc., Caledonia, MI; Notice of Termination of Investigation

Pursuant to Section 221 of the Trade Act of 1974, as amended, an investigation was initiated on April 28, 2009, in response to a petition filed by a company official on behalf of workers of Steelcase, Inc., Kellwood, Michigan (TA-W-65,857), Steelcase University, Grand Rapids, Michigan (TA-W-65,857A), and Steelcase, Inc., Caledonia, Michigan (TA-W-65,857B).

The petitioner has requested that the petition be withdrawn. Therefore, the investigation under this petition has been terminated.

Signed at Washington, DC, this 5th day of May, 2009.
Linda G. Poole,
Certifying Officer, Division of Trade Adjustment Assistance.

[FR Doc. E9-13466 Filed 6-8-09; 8:45 am]

BILLING CODE 4510-FN-P